DEPARTMENT OF TRANSPORTATION

Federal Highway Administration

Federal Railroad Administration

Environmental Impact Statement: High-Speed Ground Transportation from Atlanta, GA to Chattanooga, TN

AGENCIES: Federal Highway Administration (FHWA), Federal Railroad Administration (FRA), Department of Transportation (DOT).

ACTION: Notice of Intent to Prepare an Environmental Impact Statement.

SUMMARY: FRA and FHWA are issuing this notice to advise the public that they will jointly prepare a Tier I Environmental Impact Statement (EIS) with the Georgia Department of Transportation (GDOT) and the Tennessee Department of Transportation (TDOT) to evaluate the environmental and related impacts of constructing and operating high-speed ground transportation (HSGT) service between Atlanta, Georgia and Chattanooga, Tennessee. FRA and FHWA are also issuing this notice to solicit public and agency input into the development of the scope of the EIS and to advise the public that outreach activities conducted by GDOT and its representatives will be considered in the preparation of the EIS.

DATES: Written comments on the scope of the EIS should be provided to GDOT by October 4, 2007. Comments may also be provided orally or in writing at the scoping meetings scheduled at the following locations:

Agency Scoping Meetings—Both From 10:30 a.m. to 12 p.m. Eastern Daylight Time

1. Tuesday, September 18, 2007, Georgia Department of Transportation, Office of Environment/Location, 3993 Aviation Circle, Atlanta, Georgia.

2. Thursday, September 20, 2007, Chattanooga Hamilton County Bicentennial Library, 1001 Broad Street, Chattanooga, Tennessee.

Public Scoping Meetings—All Three From 5 p.m. to 7:30 p.m. Eastern Daylight Time

1. Tuesday, September 18, 2007, McEachern High School, 2400 New Macland Road, Powder Springs, Georgia.

2. Wednesday, September 19, 2007, Rome Civic Center, 400 Civic Center Drive, Rome, Georgia.

3. Thursday, September 20, 2007, Chattanooga Hamilton County Bicentennial Library, 1001 Broad Street, Chattanooga, Tennessee.

ADDRESSES: Written comments on the scope should be sent to Mr. Glenn Bowman, P.E., State Environmental/Location Engineer, Georgia Department of Transportation, 3993 Aviation Circle, Atlanta, GA 30336, telephone (404) 699-4401.

FOR FURTHER INFORMATION CONTACT: Mr. David Valenstein, Environmental Program Manager, Federal Railroad Administration, 1120 Vermont Avenue, NW., Mail Stop 20, Washington, DC 20590, telephone (202) 493-6368; Mr. Wayne Fedora, P.E., Major Projects Engineer, Federal Highway Administration, Georgia Division, 61 Forsyth Street, Suite 17T100, Atlanta, GA 30303, telephone (404) 562-3651; Mr. George Coleman, Transportation Specialist, Tennessee Department of Transportation, 505 Deadrick Street, Suite 1800, Nashville, TN 37243, telephone (615) 741-1341; or Mr. Bowman of GDOT at the above address.

SUPPLEMENTARY INFORMATION: FRA and FHWA, in cooperation with the GDOT and the TDOT, will prepare a Tier I EIS for a HSGT system in the 110-mile corridor between Hartsfield International Airport and Atlanta, in Georgia, and Chattanooga, Tennessee. The EIS will evaluate environmental impacts of a HSGT system in the Atlanta to Chattanooga corridor.

This corridor has seen significant growth, both in population and employment, during the past few decades. It continues to be one of the fastest growing areas in the country. Future growth is projected to result in increased travel demand for both goods and people. The existing highway, transit, and aviation transportation infrastructure that would serve this demand are all projected to be at or above capacity. GDOT and TDOT believe that HSGT could provide a transportation alternative, thereby reducing congestion and travel time within the corridor, and could provide safe and reliable transportation for passengers between Hartsfield International Airport, Chattanooga airport and metropolitan area, and points in between.

The Tier I EIS will be carried out in accordance with Council on Environmental Quality (CEQ) regulations (40 CFR part 1500 et seq.) implementing the National Environmental Policy Act (NEPA), FRA's Procedures for Considering Environmental Impacts (64 FR 28545; May 26, 1999), and FHWA regulations (23 CFR part 771 et seq.).

In addition to NEPA, the Tier I EIS will address other applicable statutes, regulations, and executive orders, including the 1990 Clean Air Act Amendments, Section 404 of the Clean Water Act, the National Historic Preservation Act of 1966, Section 4(f) of the Department of Transportation Act, the Endangered Species Act, and Executive Order 12898 on Environmental Justice.

The goals of the EIS are to: (1) Examine the regional transportation implications of the project concept; (2) evaluate the modal and technology alternatives available to provide HSGT between the two cities; (3) develop and evaluate location alternatives; and (4) determine the logical segments to be carried forward for detailed evaluation in subsequent (Tier II) environmental documents.

In a Tier I EIS, alternatives will be evaluated at a broad level of analysis. Proposed alternatives include a No-Build Alternative (used as a baseline for comparison of all alternatives), HSGT in a corridor that roughly parallels Interstate-75, one or more corridors utilizing a portion of an existing CSX transportation rail line, and a corridor that roughly parallels U.S. Route 411. Other possible corridor locations are expected to be identified during the alternatives development phase of the study.

GDOT will contact appropriate federal, state, and local agencies, as well as other organizations and individuals who have previously expressed interest, or are known to be interested, in this proposal to describe the proposed scope and solicit comments. Formal scoping meetings have been scheduled as indicated above.

Additional public information meetings and public hearings will be held during the development of the Tier I EIS. Public notice will be given of the times and locations of scoping meetings, public information meetings, and public hearings. The Draft Tier I EIS will be made available for review and comment prior to the public hearings.

To ensure that the full range of issues related to this proposed action are addressed and all significant issues are identified, comments and suggestions are invited from all interested parties. Comments or questions concerning this proposed action and the Tier I EIS should be directed to GDOT at the addresses provided above.

Issued in Washington, DC on August 16, 2007.
Rodney Barry, P.E.,
Division Administrator, Federal Highway Administration, Atlanta, GA.
Mark E. Yachmetz,
Associate Administrator for Railroad Development, Federal Railroad Administration, Washington, DC.

[FR Doc. 07-4109 Filed 8-21-07; 8:45 am]

BILLING CODE 4910-06-P